ENVIRONMENTAL PROTECTION AGENCY

[EPA-HQ-OPP-2009-1017; FRL-9902-63]

Product Cancellation Order for Certain Pesticide Registrations; Correction

AGENCY: Environmental Protection Agency (EPA).

ACTION: Notice; correction.

SUMMARY: EPA issued a notice in the Federal Register of September 20, 2013, concerning the product cancellation of several pesticide products, which were previously published in the Federal Register of September 18, 2013 and are subject to the provisions set forth in that notice. This document corrects the inclusion of these referenced registrations for product cancellation in the September 20, 2013 cancellation order notice.

FOR FURTHER INFORMATION CONTACT: John W. Pates, Jr., Pesticide Re-Evaluation Division (7508P), Office of Pesticide Programs, Environmental Protection Agency, 1200 Pennsylvania Ave. NW., Washington, DC 20460-0001; telephone number: (703) 308-8195; email address: pates.john@epa.gov.

SUPPLEMENTARY INFORMATION:

I. General Information

A. Does this action apply to me?

The Agency included in the September 20, 2013 cancellation order notice a list of those who may be potentially affected by this action.

B. How can I get copies of this document and other related information?

The docket for this action, identified by docket identification (ID) number EPA-HQ-OPP-2009-1017, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What does this correction do?

EPA issued a notice in the Federal Register of September 20, 2013 (78 FR 57850) (FRL-9396-3), concerning the product cancellation of several pesticide products, including the following McLaughlin Gormley King Co.'s product registrations: D-trans Allethrin 90% Concentrate (EPA Reg. No. 001021-01060), D-trans Intermediate 1868 (EPA Reg. No. 001021-01128), Evercide Intermediate 2416 (EPA Reg. No. 001021-01550), Evercide Intermediate 2491 (EPA Reg. No. 001021-01575), Evercide Residual Pressurized Spray 2523 (EPA Reg. No. 001021-01594), and Evercide Residual Pressurized Spray 2581 (EPA Reg. No. 001021-01607). This document corrects the inclusion of these referenced registrations for product cancellation in the September 20, 2013 cancellation order notice.

These products were previously published in the Federal Register of September 18, 2013, under FR Doc. 2013-22718 (78 FR 57388) (FRL-9395-2) and are subject to the provisions set forth in that notice.

FR Doc. 2013-22847 published in the Federal Register of September 20, 2013 (78 FR 57850) (FRL-9396-3) is corrected as follows:

1. On page 57850, Table 1, first column (EPA Registration No.), remove the entries: 001021-01060, 001021-01128, 001021-01550, 001021-01575, 001021-01594, and 001021-01607.

2. On page 57851, Table 2, first column (EPA Company No.), remove the entry: 1021.

List of Subjects

Environmental protection, Pesticides and pests.

Dated: November 22, 2013.
Richard P. Keigwin, Jr.,
Director, Pesticide Re-Evaluation Division, Office of Pesticide Programs.

[FR Doc. 2013-28987 Filed 12-3-13; 8:45 am]

BILLING CODE 6560-50-P